DEPARTMENT OF HOMELAND SECURITY

Federal Emergency Management Agency

[Docket ID FEMA-2024-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Nicholas A. Shufro,
Deputy Assistant Administrator for Risk Management, Federal Emergency Management Agency, Department of Homeland Security.

State and county | Location and case No. | Chief executive officer of community | Community map repository | Date of modification | Community No.
Colorado:
Arapahoe (FEMA Docket No.: B-2407). | City of Centennial (23-08-0500P). | The Honorable Stephanie Piko, Mayor, City of Centennial, 13133 East Arapahoe Road, Centennial, CO 80112. | Southeast Metro Stormwater Authority, 7437 South Fairplay Street, Centennial, CO 80112. | Mar. 15, 2024 | 080315
Boulder (FEMA Docket No.: B-2407). | City of Boulder (23-08-0335P). | The Honorable Aaron Brockett, Mayor, City of Boulder, 1777 Broadway, Boulder, CO 80302. | Municipal Building Plaza, 1777 Broadway, Boulder, CO 80302. | Mar. 18, 2024 | 080024
Boulder (FEMA Docket No.: B-2407). | Unincorporated areas of Boulder County (23-08-0335P). | Claire Levy, Chair, Boulder County Board of Commissioners, 1325 Pearl Street, 3rd Floor, Boulder, CO 80302. | Boulder County Transportation Department, 2525 13th Street, Suite 203, Boulder, CO 80304. | Mar. 18, 2024 | 080023
Douglas (FEMA Docket No.: B-2407). | Town of Parker (22-08-0454P). | The Honorable Jeff Toborg, Mayor, Town of Parker, 20120 East Main Street, Parker, CO 80138. | Town Hall, 20120 East Main Street, Parker, CO 80138. | Mar. 15, 2024 | 080310
Delaware: New Castle (FEMA Docket No.: B-2411). | Unincorporated areas of New Castle County (23-03-0452P). | Matthew Meyer, New Castle County Executive, 87 Reads Way, New Castle, DE 19720. | New Castle County Land Use Department, 87 Reads Way, New Castle, DE 19720. | Mar. 14, 2024 | 105085
Florida:
Bay (FEMA Docket No.: B-2411). | Unincorporated areas of Bay County (23-04-2123P). | Robert Majka, Bay County Manager, 840 West 11th Street, Panama City, FL 32401. | Bay County Planning and Zoning Department, 840 West 11th Street, Panama City, FL 32401. | Mar. 14, 2024 | 120004
Charlotte (FEMA Docket No.: B-2411). | Unincorporated areas of Charlotte County (23-04-1941P). | Bill Truex, Chair, Charlotte County Board of Commissioners, 18500 Murdock Circle, Suite 536, Port Charlotte, FL 33948. | Charlotte County Building Department, 18400 Murdock Circle, Port Charlotte, FL 33948. | Mar. 14, 2024 | 120061
Charlotte (FEMA Docket No.: B-2407). | Unincorporated areas of Charlotte County (23-04-3784P). | Bill Truex, Chair, Charlotte County Board of Commissioners, 18500 Murdock Circle, Suite 536, Port Charlotte, FL 33948. | Charlotte County Building Department, 18400 Murdock Circle, Port Charlotte, FL 33948. | Mar. 25, 2024 | 120061
Lee (FEMA Docket No.: B-2395). | City of Fort Myers (23-04-3031P). | Marty K. Lawing, Manager, City of Fort Myers, 2200 2nd Street, Fort Myers, FL 33901. | Building Department, 1825 Hendry Street, 2200 2nd Street, Fort Myers, FL 33901. | Mar. 8, 2024 | 125106
Lee (FEMA Docket No.: B-2401). | Unincorporated areas of Lee County (23-04-3191P). | David Harner, Lee County Manager, 2115 2nd Street, Fort Myers, FL 33901. | Lee County Building Department, 1500 Monroe Street, Fort Myers, FL 33901. | Mar. 22, 2024 | 125124
Massachusetts: Suffolk (FEMA Docket No.: B-2401). | City of Revere (24-01-0009P). | The Honorable Patrick M. Keefe, Jr., Acting Mayor, City of Revere, 281 Broadway, Revere, MA 02151. | City Hall, 281 Broadway, Revere, MA 02151. | Mar. 21, 2024 | 250288
Nevada:
Clark (FEMA Docket No.: B-2395). | City of Henderson (23-09-0536P). | The Honorable Michelle Romero, Mayor, City of Henderson, 240 South Water Street, Henderson, NV 89015. | City Hall, 240 South Water Street, Henderson, NV 89015. | Mar. 8, 2024 | 320005
Clark (FEMA Docket No.: B-2395). | Unincorporated areas of Clark County (23-09-0536P). | James B. Gibson, Chair, Clark County Board of Commissioners, 500 South Grand Central Parkway, Las Vegas, NV 89155. | Clark County Government Center, 500 South Grand Central Parkway, Las Vegas, NV 89155. | Mar. 8, 2024 | 320003
North Carolina:
Buncombe (FEMA Docket No.: B-2401). | Unincorporated areas of Buncombe County (24-04-0526P) | Brownie Newman, Chair, Buncombe County Board of Commissioners, 200 College Street, Suite 300, Asheville, NC 28801. | Buncombe County Planning and Development Department, 46 Valley Street, Asheville, NC 28801. | Apr. 1, 2024 | 370031
Forsyth (FEMA Docket No.: B-2401). | City of Winston-Salem (24-04-0523P). | The Honorable Allen Joines, Mayor, City of Winston-Salem, P.O. Box 2511, Winston-Salem, NC 27102. | Planning and Development Services Department, 100 East 1st Street, Winston-Salem, NC 27101. | Apr. 2, 2024 | 375360
Forsyth (FEMA Docket No.: B-2401). | Unincorporated areas of Forsyth County (24-04-0523P). | Don Martin, Chair, Forsyth County Board of Commissioners, 201 North Chestnut Street, Winston-Salem, NC 27101. | Forsyth County Planning and Development Services Department, 100 East 1st Street, Winston-Salem, NC 27101. | Apr. 2, 2024 | 375349
Gaston (FEMA Docket No.: B-2407) | City of Belmont (23-04-2570P). | The Honorable Richard Turner, Mayor, City of Belmont, 1401 East Catawba Street, Belmont, NC 28012. | Planning and Zoning Department, 1401 East Catawba Street, Belmont, NC 28012. | Mar. 12, 2024 | 370320
Madison (FEMA Docket No.: B-2401). | Unincorporated areas of Madison County (24-04-0526P) | Matthew Wechtel, Chair, Madison County Board of Commissioners, P.O. Box 579, Marshall, NC 28753. | Madison County Development Services Department, 5707 U.S. Highway 25/70, Marshall, NC 28753. | Apr. 1, 2024 | 370152
Rowan (FEMA Docket No.: B-2401) | Town of Landis (22-04-3669P). | The Honorable Meredith Smith, Mayor, Town of Landis, P.O. Box 8165, Landis, NC 28088. | Town Hall, 312 South Main Street, Landis, NC 28088. | Apr. 1, 2024 | 370213
Rowan (FEMA Docket No.: B-2401). | Unincorporated areas of Rowan County (22-04-3669P). | Greg Edds, Chair, Rowan County Board of Commissioners, 130 West Innes Street, Salisbury, NC 28144. | Rowan County Planning and Development Department, 402 North Main Street, Suite 204, Salisbury, NC 28144. | Apr. 1, 2024 | 370351
Union (FEMA Docket No.: B-2407). | Unincorporated areas of Union County (23-04-3291P). | J. R. Rowell, Chair, Union County Board of Commissioners, 500 North Main Street, Suite 914, Monroe, NC 28112. | Union County Planning and Development Department, 500 North Main Street, Suite 70, Monroe, NC 28112. | Mar. 27, 2024 | 370234
Oklahoma:
Logan (FEMA Docket No.: B-2401). | City of Guthrie (23-06-0569P). | The Honorable Steven J. Gentling, Mayor, City of Guthrie, 101 North 2nd Street, Guthrie, OK 73044. | City Hall, 101 North 2nd Street, Guthrie, OK 73044. | Mar. 7, 2024 | 400099
Logan (FEMA Docket No.: B-2401). | Unincorporated areas of Logan County (23-06-0569P). | Monty Piearcy, Chair, Logan County Board of Commissioners, 312 East Harrison Avenue, Guthrie, OK 73044. | Logan County Emergency Management Department, 219 South Broad Street, Guthrie, OK 73044. | Mar. 7, 2024 | 400096
Pennsylvania: Lancaster (FEMA Docket No.: B-2411). | Township of East Hempfield (22-03-1093P). | Cindy Schweitzer, Manager, Township of East Hempfield, 1700 Nissley Road, Landisville, PA 17538. | Planning and Building Department, 1700 Nissley Road, Landisville, PA 17538. | Mar. 20, 2024 | 420548
Texas:
Bexar (FEMA Docket No.: B-2407). | City of San Antonio (22-06-2005P). | The Honorable Ron Nirenberg, Mayor, City of San Antonio, P.O. Box 839966, San Antonio, TX 78283. | Transportation and Capital Improvements Department, Storm Water Division, 1901 South Alamo Street, 2nd Floor, San Antonio, TX 78204. | Mar. 18, 2024 | 480045
Bexar (FEMA Docket No.: B-2407). | Unincorporated areas of Bexar County (23-06-1299P). | The Honorable Peter Sakai, Bexar County Judge, 101 West Nueva Street, 10th Floor, San Antonio, TX 78205. | Bexar County Public Works Department, 1948 Probandt Street, San Antonio, TX 78214. | Mar. 11, 2024 | 480035
Collin (FEMA Docket No.: B-2401). | City of Blue Ridge (23-06-0921P). | The Honorable Rhonda Williams, Mayor, City of Blue Ridge, 200 South Main Street, Blue Ridge, TX 75424. | Public Works Department, 200 South Main Street, Blue Ridge, TX 75424. | Mar. 11, 2024 | 481628
Dallas (FEMA Docket No.: B-2401). | City of Garland (23-06-1006P). | The Honorable Scott LeMay, Mayor, City of Garland, 200 North 5th Street, Garland, TX 75040. | City Hall, 200 North 5th Street, Garland, TX 75040. | Mar. 11, 2024 | 485471
Dallas (FEMA Docket No.: B-2401). | City of Rowlett (23-06-1006P). | The Honorable Blake Margolis, Mayor, City of Rowlett, 4000 Main Street, Rowlett, TX 75088. | Community Development Department, 5702 Rowlett Road, Rowlett, TX 75089. | Mar. 11, 2024 | 480185
Dallas (FEMA Docket No.: B-2401). | City of Sachse (23-06-1006P). | The Honorable Jeff Bickerstaff, Mayor, City of Sachse, 3815 Sachse Road, Building B, Sachse, TX 75048. | City Hall, 3815 Sachse Road, Building B, Sachse, TX 75048. | Mar. 11, 2024 | 480186
Medina (FEMA Docket No.: B-2401). | Unincorporated areas of Medina County (23-06-1697P). | The Honorable Keith Lutz, Medina County Judge, 1300 Avenue M, Room 250, Hondo, TX 78861. | Medina County Old Jail Building, 1502 Avenue K, Hondo, TX 78861. | Mar. 8, 2024 | 480472
Tarrant (FEMA Docket No.: B-2411). | City of Fort Worth (23-06-1240P). | The Honorable Mattie Parker, Mayor, City of Fort Worth, 200 Texas Street, Fort Worth, TX 76102. | Department of Transportation and Public Works, Engineering Vault and Map Repository, 200 Texas Street, Fort Worth, TX 76102. | Mar. 25, 2024 | 480596
Tarrant (FEMA Docket No.: B-2395). | City of Mansfield (23-06-0544P). | The Honorable Michael Evans, Mayor, City of Mansfield, 1200 East Broad Street, Mansfield, TX 76063. | City Hall, 1200 East Broad Street, Mansfield, TX 76063. | Mar. 11, 2024 | 480606
Travis (FEMA Docket No.: B-2407). | City of Pflugerville (23-06-0785P). | The Honorable Victor Gonzales, Mayor, City of Pflugerville, P.O. Box 589, Pflugerville, TX 78691. | Planning and Development Services Center, 100 West Main Street, Pflugerville, TX 78691. | Mar. 18, 2024 | 481028
Travis (FEMA Docket No.: B-2407). | Unincorporated areas of Travis County (23-06-0785P). | The Honorable Andy Brown, Travis County Judge, P.O. Box 1748, Austin, TX 78767. | Travis County Transportation and Natural Resources Department, 700 Lavaca Street, 5th Floor, Austin, TX 78701. | Mar. 18, 2024 | 481026
Webb (FEMA Docket No.: B-2407). | City of Laredo (22-06-0300P). | The Honorable Victor D. Treviño, Mayor, City of Laredo, 1110 Houston Street, 3rd Floor, Laredo, TX 78040. | Planning and Zoning Department, 1413 Houston Street, Laredo, TX 78040. | Mar. 21, 2024 | 480651
Virginia: Chesterfield (FEMA Docket No.: B-2401). | Unincorporated areas of Chesterfield County (23-03-0270P). | Joseph P. Casey, Chesterfield County Administrator, 9901 Lori Road, Chesterfield, VA 23832. | Chesterfield County Community Development Department, 9800 Government Center Parkway, Chesterfield, VA 23832. | Mar. 22, 2024 | 510035

[FR Doc. 2024-08297 Filed 4-17-24; 8:45 am]

BILLING CODE 9110-12-P